DEPARTMENT OF ENERGY

Federal Energy Regulatory Commission

Combined Notice of Filings #2

Take notice that the Commission received the following electric rate filings:

Docket Numbers: ER10-2331-050; ER13-1351-023; ER10-2330-048; ER10-2319-041; ER10-2317-041.

Applicants: J.P. Morgan Ventures Energy Corporation, BE Alabama LLC, BE CA LLC, Florida Power Development LLC, Utility Contract Funding, L.L.C.

Description: Notice of Non-Material Change in Status of the J.P. Morgan Sellers.

Filed Date: 12/22/15.

Accession Number: 20151222-5155.

Comments Due: 5 p.m. ET 1/12/16.

Docket Numbers: ER10-2437-003.

Applicants: Arizona Public Service Company.

Description: Triennial Market Power Update of Arizona Public Service Company.

Filed Date: 12/22/15.

Accession Number: 20151222-5183.

Comments Due: 5 p.m. ET 2/22/16.

Docket Numbers: ER16-611-000.

Applicants: Midcontinent Independent System Operator, Inc.

Description: § 205(d) Rate Filing: 2015-12-22_NIPSCO-IMPA WDS and NOTIA to be effective 12/23/2015.

Filed Date: 12/22/15.

Accession Number: 20151222-5046.

Comments Due: 5 p.m. ET 1/12/16.

Docket Numbers: ER16-612-000.

Applicants: Greeley Energy Facility, LLC.

Description: Baseline eTariff Filing: Baseline New to be effective 2/20/2016.

Filed Date: 12/22/15.

Accession Number: 20151222-5091.

Comments Due: 5 p.m. ET 1/12/16.

Docket Numbers: ER16-613-000.

Applicants: Tilton Energy, LLC.

Description: § 205(d) Rate Filing: Tilton Energy LLC Revised MBR Tariff per 35.13(a)(2)(iii) to be effective 12/31/9998.

Filed Date: 12/22/15.

Accession Number: 20151222-5117.

Comments Due: 5 p.m. ET 1/12/16.

Docket Numbers: ER16-614-000.

Applicants: Michigan Power Limited Partnership.

Description: § 205(d) Rate Filing: Michigan Power Limited Partnership Revised MBR Tariff per 35.13(a)(2)(iii) to be effective 12/31/9998.

Filed Date: 12/22/15.

Accession Number: 20151222-5118.

Comments Due: 5 p.m. ET 1/12/16.

Docket Numbers: ER16-615-000.

Applicants: Midcontinent Independent System Operator, Inc.

Description: Notice of Termination of Amended and Restated Facilities Construction Agreement designated as SA 1376 of Midcontinent Independent System Operator, Inc.

Filed Date: 12/22/15.

Accession Number: 20151222-5150.

Comments Due: 5 p.m. ET 1/12/16.

Docket Numbers: ER16-616-000.

Applicants: Orion Solar I, LLC.

Description: Baseline eTariff Filing: Filing of Co-Tenancy Agreement to be effective 2/21/2016.

Filed Date: 12/22/15.

Accession Number: 20151222-5159.

Comments Due: 5 p.m. ET 1/12/16.

Docket Numbers: ER16-617-000.

Applicants: Orion Solar II, LLC.

Description: Baseline eTariff Filing: Filing of Co-Tenancy Agreement to be effective 2/21/2016.

Filed Date: 12/22/15.

Accession Number: 20151222-5160.

Comments Due: 5 p.m. ET 1/12/16.

Docket Numbers: ER16-618-000.

Applicants: GWF Energy LLC.

Description: § 205(d) Rate Filing: AltaGas San Joaquin Energy Inc. Notice of Succession to be effective 12/23/2015.

Filed Date: 12/22/15.

Accession Number: 20151222-5191.

Comments Due: 5 p.m. ET 1/12/16.

Take notice that the Commission received the following electric securities filings:

Docket Numbers: ES16-15-000.

Applicants: KCP&L Greater Missouri Operations Company.

Description: Application for Authorization of Issuance of Short-Term Debt Securities Under Section 204 of the Federal Power Act of KCP&L Greater Missouri Operations Company.

Filed Date: 12/22/15.

Accession Number: 20151222-5167.

Comments Due: 5 p.m. ET 1/12/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2015.
Nathaniel J. Davis, Sr.,
Deputy Secretary.

[FR Doc. 2015-32691 Filed 12-28-15; 8:45 am]

BILLING CODE 6717-01-P